DEPARTMENT OF COMMERCE

Patent and Trademark Office

[Docket No.: PTO-P-2022-0025]

Request for Comments on USPTO Initiatives To Ensure the Robustness and Reliability of Patent Rights

AGENCY: United States Patent and Trademark Office, Department of Commerce.

ACTION: Request for comments; extension of comment period.

SUMMARY: The United States Patent and Trademark Office (USPTO) is extending the comment period for the notice titled “Request for Comments on USPTO Initiatives to Ensure the Robustness and Reliability of Patent Rights” that was published in the Federal Register on October 4, 2022. The notice's comment period was previously extended until February 1, 2023. The comment period is now extended a second time; this will be the last extension of the comment period.

DATES: The comment period for the notice published at 87 FR 60130, which was extended at 87 FR 66282 on November 3, 2022, is further extended. Comments are due by February 28, 2023.

ADDRESSES: For reasons of government efficiency, comments must be submitted through the Federal eRulemaking Portal at www.regulations.gov. This docket closed on February 1, 2023, but is now reopened to accept additional comments. To submit comments via the portal, enter docket number PTO-P-2022-0025 on the homepage and click “Search.” The site will provide a search results page listing all documents associated with this docket. Find a reference to this document and click on the “Comment” icon, complete the required fields, and enter or attach your comments. Attachments to electronic comments will be accepted as various file types, including Adobe® portable document format (PDF) and Microsoft Word® format. Because comments will be made available for public inspection, information the submitter does not desire to make public, such as an address or phone number, should not be included in the comments.

Visit the Federal eRulemaking Portal for additional instructions on providing comments via the portal. If electronic submission of comments is not feasible due to a lack of access to a computer and/or the internet, please contact the USPTO using the contact information below (at FOR FURTHER INFORMATION CONTACT) for special instructions.

FOR FURTHER INFORMATION CONTACT: Linda Horner, Administrative Patent Judge, at 571-272-9797; June Cohan, Senior Legal Advisor, Office of Patent Legal Administration, Office of the Deputy Commissioner for Patents, at 571-272-7744; or Raul Tamayo, Senior Legal Advisor, Office of Patent Legal Administration, Office of the Deputy Commissioner for Patents, at 571-272-7728.

SUPPLEMENTARY INFORMATION: On October 4, 2022, the USPTO published a notice titled “Request for Comments on USPTO Initiatives to Ensure the Robustness and Reliability of Patent Rights” to seek initial public comments on proposed initiatives directed at bolstering the robustness and reliability of patents to incentivize and protect new and nonobvious inventions while facilitating the broader dissemination of public knowledge, which will, in turn, promote innovation and competition. See 87 FR 60130. On November 3, 2022, the USPTO extended the written comment period until February 1, 2023. See 87 FR 66282. The USPTO is now extending the written comment period a second time until February 28, 2023, to ensure that all stakeholders have a sufficient opportunity to submit comments on the questions presented in the October 4, 2022, notice. This will be the last extension of the comment period.

Comments previously submitted to the docket through the Federal eRulemaking Portal do not need to be resubmitted. Any comments sent directly to USPTO after the close of the previous deadline of February 1, 2023, must be submitted through the Federal eRulemaking Portal before the newly extended deadline to be given full consideration. All other information and instructions to commenters provided in the October 4, 2022, notice remain unchanged.

Katherine K. Vidal,
Under Secretary of Commerce for Intellectual Property and Director of the United States Patent and Trademark Office.

[FR Doc. 2023-03119 Filed 2-13-23; 8:45 am]

BILLING CODE 3510-16-P